DEPARTMENT OF DEFENSE

Department of the Air Force

HQ USAF Scientific Advisory Board

AGENCY: Department of the Air Force, DoD.

ACTION: Notice of meeting.

SUMMARY: Pursuant to Public Law 92-463, notice is hereby given of the forthcoming meeting of the AFC2ISRC Advisory Group. The purpose of the meeting is to brief the Commander of the AFC2ISR Center. This meeting will be closed to the public.

DATE: October 15, 2003.

ADDRESSES: AFC2ISRC, Langley AFB, VA.

FOR FURTHER INFORMATION CONTACT: Maj. Chris Berg, Air Force Scientific Advisory Board Secretariat, 1180 Air Force Pentagon, Rm 5D982, Washington DC 20330-1180, (703) 697-4811.

Pamela D. Fitzgerald,
Air Force Federal Register Liaison Officer.

[FR Doc. 03-25213 Filed 10-3-03; 8:45 am]

BILLING CODE 5001-05-P